DEPARTMENT OF THE INTERIOR

Office of the Secretary

[24XD4523WS/DWSN00000.000000/DS61500000/DP.61501]

Notice of Public Meeting of the Invasive Species Advisory Committee

AGENCY: National Invasive Species Council, Interior.

ACTION: Notice of public meeting.

SUMMARY: Pursuant to the provisions of the Federal Advisory Committee Act, notice is hereby given that a meeting of the Invasive Species Advisory Committee (ISAC) will meet as indicated below.

DATES: The Invasive Species Advisory Committee will convene in-person on Monday, October 21, 2024, 8:00 a.m.-5:00 p.m. (HST); Tuesday, October 22, 2024, 8:00 a.m.-11:00 a.m. (HST); and, Wednesday, October 23, 2024; 8:00 a.m.-5:00 p.m. (HST). The general session proceedings will also be streamed virtually via Zoom webinar. Registration is required for all in-person attendees and virtual participants at: https://forms.office.com/g/VmCNxLGn5A. Note: Virtual access to the general session portions of the meeting will be in “listen only” mode.

ADDRESSES: October 21-22, 2024: Queen Kapi'olani Hotel, 150 Kapahulu Avenue, Honolulu, HI 96815. October 23, 2024: Hyatt Place Waikiki Beach, 175 Paoakalani Ave., Honolulu, HI 96815.

FOR FURTHER INFORMATION CONTACT: For information concerning attending the ISAC meeting, submitting written comments to the ISAC, or requesting to address the ISAC, contact Kelsey Brantley, NISC Operations Director and ISAC Coordinator, National Invasive Species Council Staff, telephone (202) 577-7012; fax: (202) 208-4118, or email kelsey_brantley@ios.doi.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose of the ISAC is to provide advice to the NISC, as authorized by Executive Orders 13112 and 13751, on a broad array of issues related to preventing the introduction of invasive species and providing for their control and minimizing the economic, ecological, and human health impacts that invasive species cause. NISC is co-chaired by the Secretary of the Interior, the Secretary of Agriculture, and the Secretary of Commerce. The duty of NISC is to provide national leadership regarding invasive species issues.

The purpose of the in-person meeting on Monday, October 21, 2024, through Wednesday, October 23, 2024, is to convene the full ISAC to finalize and formally approve deliverables developed by its subcommittees on two (2) topics requested by NISC: (1) the impacts of invasive species on islands; and (2) feedback on the National Early Detection and Rapid Response (EDRR) Framework. The committee will also participate in a field trip to He'eia State Park, visiting with local organizations including Kāko`o `Ōiwi and Paepae o He'eia to observe on-the-ground efforts in wetland restoration and invasive species management.

Meeting Agenda: The meeting agenda will consist of an opening session with remarks from state and local leadership, updates from NISC member agencies, an island issues forum, discussion of outputs by the two subcommittees, and consideration of lessons learned and future issues for ISAC consideration. Opportunities for public comment will be provided at the end of the meeting day on Monday and Wednesday.

The final agenda and other reference documents for discussion during the meeting will be available for public viewing as they become available, but no later than 48 hours prior to the start of the meeting at https://www.invasivespecies.gov.

Meeting Registration: All meeting participants and interested members of the public must register at https://forms.office.com/g/VmCNxLGn5A to attend the meeting in-person or observe the general session virtually. Due to the limited capacity at the meeting venue, and limited connections available for virtual observation, individuals must register no later than Friday, October 18, 2024; 3:00 p.m. (ET).

Meeting Accessibility/Special Accommodations: The meeting is open to the public. Registration is required (see Meeting Registration above). Please make requests in advance for sign language interpreter services, assistive listening devices, language translation services, or other reasonable accommodations. Please contact Kelsey Brantley at kelsey_brantley@ios.doi.gov, at least seven (7) business days prior to the meeting to give the Department of the Interior sufficient time to process your request. All reasonable accommodation requests are managed on a case-by-case basis.

Public Comment: Interested members of the public may provide either oral or written comments to ISAC for consideration. Oral comments may be given during designated times as specified in the meeting agenda. Depending on the number of people wishing to comment and the time available, the amount of time for oral comments may be limited. Written comments must be submitted by email to Kelsey Brantley at kelsey_brantley@ios.doi.gov, no later than Friday, October 18, 2024; 3:00 p.m. (ET). All written comments will be provided to members of the ISAC. Individuals who wish to expand upon their oral statements, or those who had wished to speak but could not be accommodated on the agenda, may submit written comments to Kelsey Brantley at kelsey_brantley@ios.doi.gov, up to 30 days following the meeting.

All comments will be made part of the public record and will be electronically distributed to all ISAC members. The detailed meeting minutes will be available for public inspection within 90 days of the meeting.

Public Disclosure of Comments: Before including your address, phone number, email address, or other personal identifying information in your written comments, you should be aware that your entire comment including your personal identifying information will be made publicly available. While you can ask us in your comment to withhold your personal identifying information from public review, we cannot guarantee that we will be able to do so.

Authority: 5 U.S.C. ch. 10.

Stanley W. Burgiel,
Executive Director, National Invasive Species Council.

[FR Doc. 2024-21865 Filed 9-24-24; 8:45 am]

BILLING CODE 4334-63-P